NATIONAL ARCHIVES AND RECORDS ADMINISTRATION

[NARA-2019-008]

Renewal of State, Local, Tribal, and Private Sector Policy Advisory Committee

AGENCY: National Archives and Records Administration.

ACTION: Notice of Federal Advisory Committee charter renewal.

SUMMARY: NARA has renewed the charter for its State, Local, Tribal, and Private Sector Policy Advisory Committee (SLTPS-PAC). The General Services Administration included the SLTPS-PAC in NARA's ceiling of approved Federal advisory committees.

DATES: The charter will run for two years, until December 15, 2020.

ADDRESSES: NARA staff supporting the Committee are located at National Archives and Records Administration; 700 Pennsylvania Avenue, NW; Information Security Oversight Office; Washington, DC 20408.

FOR FURTHER INFORMATION CONTACT: Miranda Andreacchio, NARA Committee Management Officer, by telephone at 202-357-7467.

SUPPLEMENTARY INFORMATION: NARA determined that renewing the SLTPS-PAC was in the public interest due to the expertise and valuable advice the Committee members provide. NARA will use the Committee's recommendations on issues related to the Classified National Security Information Program for State, Local, Tribal, and Private Sector Entities.

NARA renewed the charter in accordance with provisions of section 9(a)(2) of the Federal Advisory Committee Act (Pub. L. 92-463, 5 U.S.C., App.). GSA approved the SLTPS-PAC in accordance with Executive Order 13549.

David S. Ferriero,
Archivist of the United States.

[FR Doc. 2019-21230 Filed 9-30-19; 8:45 am]

BILLING CODE 7515-01-P